DEPARTMENT OF ENERGY

Federal Energy Regulatory Commission

[Docket Nos. RP01-76-000 and 002 and Docket Nos. RP01-396-000 and 001 (Not Consolidated)]

Northern Natural Gas Company; Notice of Technical Conference

September 13, 2001.

On November 22, 2000, the Commission issued an order accepting and suspending Northern Natural Gas Company's (Northern Natural) filing, in Docket No. RP01-76-000, to adjust its rates pursuant to Section 32(K) of its tariff, due to changes in its System Levelized Account (SLA). On May 31, 2001, the Commission issued an order in Docket No. RP01-396-000 accepting and suspending a second SLA filing by Northern Natural. On August 1, 2001, the Commission issued an order on rehearing of the May 31 order directing that a technical conference be held to address issues raised by the filing.

Take notice that a technical conference will be held on Wednesday, October 4, 2001 at 9:30 a.m., in a room to be designated, at the offices of the Federal Energy Regulatory Commission, 888 First Street, NE., Washington, DC 20426.

All interested parties and Staff are permitted to attend. Participants should be prepared to discuss tariff, accounting and rate issues raised in both proceedings, information submitted by Northern Natural in Docket Nos. RP01-76-002 and RP01-396-000, as well as any other concerns raised in protests and comments.

The above schedule may be changed as circumstances warrant.

David P. Boergers,
Secretary.

[FR Doc. 01-23403 Filed 9-19-01; 8:45 am]

BILLING CODE 6717-01-P